NATIONAL AERONAUTICS AND SPACE ADMINISTRATION

[Notice: 03-090]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted on or before September 29, 2003.

ADDRESSES: All comments should be addressed to Ms. Celeste Dalton, Code HK, National Aeronautics and Space Administration, Washington, DC 20546-0001.

FOR FURTHER INFORMATION CONTACT: Ms. Nancy Kaplan, NASA Reports Officer, (202) 358-1372.

Title: Mentor-Protege Program-Small Business and Small Disadvantaged Business Concerns.

OMB Number: 2700-0078.

Type of review: Extension of a currently approved collection.

Need and Uses: Information is required by NASA to monitor the performance and progress of both the mentor and the protege firms in this developmental assistance program, as delineated in the Mentor-Protege Agreement. Semi-annual reports will serve as an internal control measure to achieve Agency objectives and by serving as a check and balance against undesired action or consequences. This requirement is codified at 48 CFR subpart 1819.72.

Affected Public: Business or other for-profit.

Number of Respondents: 26.

Responses Per Respondent: 2.

Annual Responses: 52.

Hours Per Request: 1.5.

Annual Burden Hours: 78.

Frequency of Report: Semi-annually.

Patricia L. Dunnington,
Chief Information Officer, Office of the Administrator.

[FR Doc. 03-19534 Filed 7-30-03; 8:45 am]

BILLING CODE 7510-01-P